DEPARTMENT OF HOUSING AND URBAN DEVELOPMENT

[Docket No. FR-7092-C 29; OMB Control No.: 2502-0204]

30-Day Notice of Proposed Information Collection: Owner's Certification With HUD Tenant Eligibility and Rent Procedures

AGENCY: Office of Policy Development and Research, Chief Data Officer, HUD.

ACTION: Notice; correction.

SUMMARY: HUD is seeking approval from the Office of Management and Budget (OMB) for the information collection described below. In accordance with the Paperwork Reduction Act, HUD is requesting comments from all interested parties on the proposed collection of information. The purpose of this notice is to allow for 30 days of public comment. This notice replaces the notice published on September 15, 2025.

DATES: Comments Due Date: October 17, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on July 9, 2024 at 89 FR 56399.

A. Overview of Information Collection

Title of Information Collection: Owner's Certification with HUD Tenant Eligibility and Rent Procedures.

OMB Approval Number: 2502-0204.

Type of Request: Reinstatement, with change, of previously approved collection for which approval has expired.

Form Number: HUD-50059, HUD-50059 Instructions, HUD-50059-A, HUD-50059-A, Instructions, HUD-9887/9887-A, HUD-27061-H, HUD-92236, HUD-90100, HUD-90101, HUD-90102, HUD-90104, HUD-90105-a, HUD-90105-b, HUD-90105-c, HUD-90105-d, HUD-90106, HUD-90011 (Enterprise Income Verification (EIV) System Multifamily Housing Coordinator Access Authorization Form), HUD-90012 (Enterprise Income Verification (EIV) System User Access Authorization Form), EIV and You Brochure, Resident Rights and Responsibilities Brochure, and Fact Sheet for HUD Assisted Residents.

Description of the need for the information and proposed use: The Department needs to collect this information to determine tenant eligibility for subsidized housing; verify tenant incomes, rents, and assistance to prevent improper payments to property owners; and assess whether programs are administered in compliance with Title VI of the Civil Rights Act of 1964.

Information collected is submitted to HUD electronically through HUD's Tenant Rental Assistance Certification System (TRACS). TRACS supports HUD's ability to collect and maintain accurate tenant and payment data; automate financial management; reduce manual processes and paperwork; forecast rental assistance budgets; and detect fraud, waste, and abuse in rental assistance programs. Statutory and regulatory changes to how incomes and rents are determined, among other things, created the need for a substantial revision to TRACS, resulting in form changes to be paired with a new TRACS release (version 2.0.3.A). Changes include updates to the form HUD-50059 (Owner's Certification of Compliance with HUD's Tenant Eligibility and Rent Procedures), which essentially replicates the TRACS interface.

Information collection | Number of respondents | Frequency of response | Responses per annum | Burden hours per response | Total annual burden hrs. | Hourly cost to public | Total annual cost to public
Race and Ethnic Data Reporting Form (form HUD-27061-H) | 154,543 | 1 | 154,543 | 0.17 | 26,272 | $39.77 | $1,044,850
Owner's Certification of Compliance with HUD's Tenant Eligibility and Rent Procedures (form HUD-50059) | 2,238,197 | 1 | 2,238,197 | 0.50 | 1,119,099 | 39.77 | 44,506,547
Owner's Certification of Compliance with HUD's Tenant Eligibility and Rent Procedures (form HUD-50059-A) | 1,525,680 | 1 | 1,525,680 | 0.13 | 198,338 | 39.77 | 7,887,918
Enterprise Income Verification (EIV) System Multifamily Housing Coordinator Access Authorization Form (form HUD-90011) | 8,540 | 1 | 8,540 | 0.25 | 2,135 | 39.77 | 84,909
Enterprise Income Verification (EIV) System User Access Authorization Form (form HUD-90012) | 36,053 | 2 | 72,106 | 0.25 | 18,027 | 39.77 | 716,914
Recertification Notice (Exhibit 7-1: Annual Recertification Initial Notice; form HUD-90100) | 2,238,197 | 1 | 2,238,197 | 0.08 | 179,056 | 39.77 | 7,121,048
Certification of Long-Term Care Insurance (form HUD-90101) | 56,140 | 1 | 56,140 | 0.17 | 9,544 | 39.77 | 379,557
Verification of Disability (form HUD-90102) | 3,364 | 1 | 3,364 | 0.08 | 269 | 39.77 | 10,703
Exceptions to Limitations on Admission of Families (form HUD-90104) | 7,363 | 1 | 7,363 | 0.20 | 1,473 | 39.77 | 58,565
Model Lease for Subsidized Programs (form HUD-90105-A) | 137,357 | 1 | 137,357 | 0.08 | 10,989 | 39.77 | 437,015
Model Lease for Section 202/8 or Section 202/162 Projects (form HUD-90105-B) | 1,520 | 1 | 1,520 | 0.08 | 122 | 39.77 | 4,836
Model Lease for Section 202 Project Rental Assistance Contract (form HUD-90105-C) | 11,820 | 1 | 11,820 | 0.08 | 946 | 39.77 | 37,607
Model Lease for Section 811 Project Rental Assistance Contract (form HUD-90105-D) | 3,100 | 1 | 3,100 | 0.08 | 248 | 39.77 | 9,863
Model Lease for Section 811 Project Rental Assistance Program (form HUD-92236) | 651 | 1 | 651 | 0.08 | 52 | 39.77 | 2,071
Move-In/Move-Out Inspection Form (form HUD-90106) | 367,090 | 1 | 367,090 | 0.08 | 29,367 | 39.77 | 1,167,934
Applicant's/Tenant's Consent to the Release of Information (form HUD-9887/-9887-A) | 171,883 | 1 | 171,883 | 0.17 | 29,220 | 39.77 | 1,162,084
Totals | 6,961,498 |  | 6,997,551 |  | 1,625,155 |  | 64,632,420

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department PRA Compliance Officer, Office of Policy Development and Research, Chief Data Officer.

[FR Doc. 2025-17964 Filed 9-16-25; 8:45 am]

BILLING CODE 4210-67-P